NUCLEAR REGULATORY COMMISSION

Agency Information Collection Activities: Proposed Collection; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on January 2, 2008.

1. Type of submission, new, revision, or extension: Revision.

2. The title of the information collection: 10 CFR Part 73—“Physical Protection of Plants and Materials.”

3. Current OMB approval number: 3150-0002.

4. The form number if applicable: Not applicable.

5. How often the collection is required: On occasion, with the exception of the initial submittal of revised Security Plans, Safeguards Contingency Plans, and Security Training and Qualification Plans. Required reports are submitted and evaluated as events occur.

6. Who will be required or asked to report: Nuclear power reactor licensees, licensed under 10 CFR Part 50 or 52 who possess, use, import, export, transport, or deliver to a carrier for transport, special nuclear material; Category I fuel facilities; Category II and III facilities; research and test reactors; and 262 other nuclear materials licensees.

7. An estimate of the number of annual responses: 86,264 (85,880 plus 384 recordkeepers).

8. The estimated number of annual respondents: 384.

9. An estimate of the total number of hours needed annually to complete the requirement or request: 578,863 hours (85,441 reporting [approximately 1 hour per response] and 493,422 recordkeeping [1,285 hours per recordkeeper]).

10. Abstract: NRC regulations in 10 CFR Part 73 prescribe requirements to establish and maintain a physical protection system and security organization with capabilities for protection of: (1) Special nuclear material (SNM) at fixed sites, (2) SNM in transit, and (3) plants in which SNM is used. The objective is to ensure that activities involving special nuclear material are consistent with interests of common defense and security and that these activities do not constitute an unreasonable risk to public health and safety. The information in the reports and records submitted by licensees is used by the NRC staff to ensure that the health and safety of the public and the environment are protected, and licensee possession and use of special nuclear material is in compliance with license and regulatory requirements.

A copy of the final supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions should be directed to the OMB reviewer listed below by April 18, 2008. Comments received after this date will be considered if it is practical to do so, but assurance of consideration cannot be given to comments received after this date.

Nathan J. Frey, Office of Information and Regulatory Affairs (3150-0002), NEOB-10202, Office of Management and Budget, Washington, DC 20503. Comments can also be e-mailed to Nathan_J._Frey@omb.eop.gov or submitted by telephone at (202) 395-7345.

The NRC Clearance Officer is Margaret A. Janney, (301) 415-7245.

Dated at Rockville, Maryland, this 12th day of March, 2008.
For the Nuclear Regulatory Commission.
Gregory Trussell,
Acting NRC Clearance Officer, Office of Information Services.

[FR Doc. E8-5518 Filed 3-18-08; 8:45 am]

BILLING CODE 7590-01-P